DEPARTMENT OF HOMELAND SECURITY

Coast Guard

[Docket No. USCG-2015-0145]

Cooperative Research and Development Agreement—Coast Guard Response Boat-Medium Data Recorder

AGENCY: Coast Guard, DHS.

ACTION: Notice of intent; request for comments.

SUMMARY: The Coast Guard announces its intent to enter into a Cooperative Research and Development Agreement (CRADA) with Vector Controls, Inc. (Vector) to develop changes to the response boat-medium (RB-M) onboard engine data bus that will convert Society of Automotive Engineers (SAE) J1939 format to the National Marine Electronics Association (NMEA) 0183/2000 data format. A test schedule has been proposed in which Vector will develop and install the required RB-M control system software upgrades and relevant additional equipment; a Coast Guard field unit will operate the RB-M in normal operations; and the Coast Guard Research and Development Center (R&DC) will install a dedicated data recorder system and conduct periodic data downloads for demonstration purposes. While the Coast Guard is currently considering partnering with Vector, the Coast Guard solicits public comment on the possible nature of and participation of other parties in the proposed CRADA. In addition, the Coast Guard also invites other potential non-Federal participants, who have the interest and capability to bring similar contributions to this type of research, to consider submitting proposals for consideration in similar CRADAs.

DATES: Comments must be submitted to the online docket via http://www.regulations.gov, or reach the Docket Management Facility, on or before April 13, 2015.

Synopses of proposals regarding future CRADAs must reach the Coast Guard (see FOR FURTHER INFORMATION CONTACT) on or before April 13, 2015.

ADDRESSES: Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: If you have questions on this notice or wish to submit proposals for future CRADAs, contact Jay Carey, Project Official, Surface Branch, U.S. Coast Guard Research and Development Center, 1 Chelsea Street, New London, CT 06320, telephone 860-271-2702, email Jay.R.Carey@uscg.mil. If you have questions on viewing or submitting material to the docket, call Cheryl Collins, Program Manager, Docket Operations, telephone 202-366-9826, toll free 1-800-647-5527.

SUPPLEMENTARY INFORMATION:

Public Participation and Request for Comments

We encourage you to submit comments and related material on this notice. All comments received will be posted, without change, to http://www.regulations.gov and will include any personal information you have provided.

Do not submit detailed proposals for future CRADAs to the Docket Management Facility. Instead, submit them directly to the Coast Guard (see FOR FURTHER INFORMATION CONTACT) .

Comments should be marked with docket number USCG-2015-0145 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ × 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with other types of agreements such as procurement contracts, grants, and cooperative agreements.

Under the proposed CRADA, the R&DC will collaborate with one non-Federal participant. Together, the R&DC and the non-Federal participant would develop the changes required to convert the current engine data format used on the USCG RB-M (Society of Automotive Engineers (SAE) J1939) to a widely used format in marine electronics (NMEA 0183/2000). The RDC will provide Vector access to an operational RB-M at a Coast Guard field unit on or about May 1, 2015. The Coast Guard plans to operate a dedicated data recorder system on the RB-M for 90 days then return the vessel to its standard operational configuration.

We anticipate that the Coast Guard's contributions under the proposed CRADA will include the following:

(1) Develop the demonstration test plan to be executed under the CRADA;

(2) Provide the test vessel, test vessel support, facilities, and all required approvals as required for a 90-day demonstration under the CRADA;

(3) Conduct a Privacy Threshold Analysis (PTA) as required for the demonstration to be conducted under this CRADA;

(4) Conduct a Privacy Impact Assessment as required for the demonstration to be conducted under this CRADA;

(5) Collect and analyze demonstration test plan data in accordance with the CRADA demonstration test plan; and

(6) Develop the Demonstration Final Report, which will document the methodologies, findings, conclusions, and recommendations of this CRADA work.

We anticipate that the non-Federal participants' contributions under the proposed CRADA will include the following:

(1) Provide any equipment and software upgrades required to conduct the demonstration as described in the demonstration test plan developed under this CRADA;

(2) Provide technical oversight as required to conduct the demonstration as described in the demonstration test plan developed under this CRADA;

(3) Provide the technical data package for all equipment, including dimensions, weight, power requirements, interface specifications, and other technical considerations for the additional components to be utilized under this CRADA;

(4) Provide shipment and delivery of all equipment required for the demonstration to be conducted under this CRADA; and

(5) Provide travel and other associated personnel and other expenses as required.

The Coast Guard reserves the right to select for CRADA participants all, some, or no proposals submitted for this CRADA. The Coast Guard will provide no funding for reimbursement of proposal development costs. Proposals and any other material submitted in response to this notice will not be returned. Proposals submitted are expected to be unclassified and have no more than five single-sided pages (excluding cover page, DD 1494, JF-12, etc.). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering Vector for participation in this CRADA. This consideration is based on the fact that Vector has demonstrated its technical ability as the developer and manufacturer of the current RB-M propulsion control system. However, we do not wish to exclude other viable participants from this or future similar CRADAs.

This is a technology demonstration effort. The goal of this CRADA is to develop the changes required to convert the current data format used on the USCG RB-M (J1939) to a widely used format in marine electronics (NMEA 0183/2000). Special consideration will be given to small business firms/consortia, and preference will be given to business units located in the U.S. This notice is issued under the authority of 5 U.S.C. 552(a).

Dated: February 24, 2015.
B.N. Macesker,
Executive Director, U.S. Coast Guard Research and Development Center.

[FR Doc. 2015-05418 Filed 3-12-15; 8:45 am]

BILLING CODE 9110-04-P